DEPARTMENT OF HOUSING AND URBAN DEVELOPMENT

[Docket No. FR-7070-N-74]

30-Day Notice of Proposed Information Collection: Study of Post-Disaster Outcomes of Renter Households and Rental Housing Community Development Block Grant-Disaster Recovery (CDBG-DR); OMB Control No.: 2528-NEW

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: November 30, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Anna Guido, Clearance Officer, REE, Department of Housing and Urban Development, 451 7th Street SW, Room 8210, Washington, DC 20410-5000; email PaperworkReductionActOffice@hud.gov.

FOR FURTHER INFORMATION CONTACT: Anna P. Guido, Reports Management Officer, REE, Department of Housing and Urban Development, 451 7th Street SW, Room 8210, Washington, DC 20410; email: PaperworkReductionActOffice@hud.gov or telephone (202) 402-5535. This is not a toll-free number. HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Guido.

SUPPLEMENTARY INFORMATION: This notice informs the public that HUD is seeking approval from OMB for the information collection described in Section A.

The Federal Register notice that solicited public comment on the information collection for a period of 60 days was published on July 11, 2023 at 88 FR 44144.

A. Overview of Information Collection

Title of Information Collection: Study of Post-Disaster Outcomes of Renter Households and Rental Housing. Community Development Block Grant-Disaster Recovery (CDBG-DR).

OMB Approval Number: 2528-New.

Type of Request: New collection.

Form Number: N/A.

Description of the need for the information and proposed use: The Office of Policy Development and Research (PD&R), at the U.S. Department of Housing and Urban Development (HUD), is proposing the collection of information for the HUD CDBG Disaster Recovery Outcomes of Renter Households Cooperative Agreement.

The goal of this research is to improve disaster recovery effectiveness for renter households by examining the disaster recovery outcomes of renter households and rental housing stock in places that received Community Development Block Grant-Disaster Recovery grants (CDBG-DR). This research is expected to help the Federal government, states, and communities throughout the United States improve disaster recovery effectiveness for renter households by providing information about how disaster recovery programs funded through CDBG-DR have different impacts on renters and homeowners, and how disasters impact affordable rental housing stock over time. This research will be used to assess renter outcomes, barriers to accessing recovery resources, and mechanisms of Federal and local implementation of CDBG-DR grants. Results from this study will support HUD in identifying opportunities for changes to legislation, policy and program implementation in disaster recovery to improve outcomes for renters.

This Federal Register Notice provides an opportunity to comment on the information collection for this study titled HUD CDBG Disaster Recovery Outcomes of Renter Households. The information collection is designed to support the study of disaster outcomes on renters, including to better understand CDBG-DR allocations across housing tenure, specifically for renters, identify successful processes with corresponding outcomes for rental housing recovery aid programs and translate this research into actionable programmatic recommendations with appropriate timelines, policy making and implementation changes to improve these outcomes. The study includes a survey, interviews and focus groups in communities that have received CDBG-DR funding.

Respondents: CDBG-DR grantee representatives and administrators; elected and appointed government officials in CDBG-DR grantee jurisdictions and municipalities; landlords and developers in CDBG-DR grantee jurisdictions; representatives from housing and tenant advocacy organizations; and renters living in CDBG-DR grantee jurisdictions.

Information collection | Number of respondents | Frequency of response | Responses per annum | Burden hour per response | Annual burden hours | Hourly cost per response | Cost
Interviews—Federal, state, and local government | 25 | 1 | 25 | 1 | 25 | $30.85 | $771.25
Interviews—Professionals and business services | 20 | 1 | 20 | 1 | 20 | 39.64 | 792.80
Interviews—Private sector employees | 25 | 1 | 25 | 1 | 25 | 33.03 | 825.75
Focus groups—Private sector employees | 120 | 1 | 120 | 1.5 | 180 | 33.03 | 5,945.40
Total | 190 |  |  |  | 250 |  | 8,335.20

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. Chapter 35.

Anna P. Guido,
Department Reports Management Office, Office of Policy Development and Research, Chief Data Officer.

[FR Doc. 2023-23988 Filed 10-30-23; 8:45 am]

BILLING CODE 4210-67-P